DEPARTMENT OF TRANSPORTATION

Office of the Secretary

Aviation Proceedings, Agreements Filed During the Week Ending March 9, 2001

The following Agreements were filed with the Department of Transportation under the provisions of 49 U.S.C. § 412 and 414. Answers may be filed within 21 days after the filing of the application.

Docket Number: OST-2001-9055.

Date Filed: March 5, 2001.

Parties: Members of the International Air Transport Association.

Subject:

PTC3 0480 dated 2 March 2001

Mail Vote 114—TC3 Special Passenger Amending.

Resolution between Korea and Japan.

Intended effective date: 1 April 2001.

Docket Number: OST-2001-9056.

Date Filed: March 5, 2001.

Parties: Members of the International Air Transport Association.

Subject:

PTC2 EUR-AFR 0129 dated 2 March 2001.

TC2 Europe-Africa Expedited Resolution 002o.

Intended effective date: 15 April 2001.

Docket Number: OST-2001-9060.

Date Filed: March 5, 2001.

Parties: Members of the International Air Transport Association.

Subject:

PTC COMP 0784 dated 2 March 2001.

Mail Vote 113—Resolution 010u.

TC12/TC31/TC123 Special Passenger Amending Resolution.

Flagstaff Add-on Amounts.

Intended effective date: 1 April 2001.

Docket Number: OST-2001-9077.

Date Filed: March 7, 2001.

Parties: Members of the International Air Transport Association.

Subject:

PTC12 NMS-ME 0127 dated 16 February 2001.

North Atlantic-Middle East Resolutions r1-r19.

PTC12 NMS-ME 0128 dated 16 February 2001.

North Atlantic-Israel Resolution r20-r38.

Minutes—PTC12 NMS-ME 0131 dated 2 March 2001.

Tables—PTC12 NMS-ME FARES 0074 dated 20 February 2001.

Intended effective date: 1 April 2001.

Docket Number: OST-2001-9126.

Date Filed: March 8, 2001.

Parties: Members of the International Air Transport Association.

Subject:

Mail Votes 110 and 111.

PTC12 NMS-ME 0124 dated 8 February 2001.

Mid Atlantic-Middle East Resolutions r1-r11.

PTC12 NMS-ME 0125 dated 8 February 2001.

South Atlantic-Middle East Resolutions r12-r23.

PTC12 NMS-ME 0132 and 0133 dated 6 March 2001.

Adoption of Mail Votes 110 and 111.

Minutes—PTC12 NMS-ME 0131 dated 2 March 2001.

Filed with Docket OST-2001-9077.

Tables—PTC12 NMS-ME Fares 0075 dated 6 March 2001.

PTC12 NMS-ME Fares 0076 dated 6 March 2001.

Intended effective date: 1 April 2001.

Dorothy Y. Beard,
Federal Register Liaison.

[FR Doc. 01-6907 Filed 3-19-01; 8:45 am]

BILLING CODE 4910-62-P